DEPARTMENT OF ENERGY

Federal Energy Regulatory Commission

Combined Notice of Filings #2

Take notice that the Commission received the following electric rate filings:

Docket Numbers: ER10-2819-001

Applicants: ALLETE, Inc.

Description: Allete, Inc submits Midwest ISO MBR Process Document.

Filed Date: 3/23/12

Accession Number: 20120328-0010

Comments Due: 5 p.m. ET 4/13/12

Docket Numbers: ER12-1131-000

Applicants: Parkview AMC Energy, LLC

Description: Additional Information to be effective N/A.

Filed Date: 3/29/12

Accession Number: 20120329-5107

Comments Due: 5 p.m. ET 4/19/12

Docket Numbers: ER12-1379-000

Applicants: Cleco Power LLC

Description: Cleco Power 2012 Rate Case (Part 2 of 2) to be effective 6/1/2012.

Filed Date: 3/29/12

Accession Number: 20120329-5000

Comments Due: 5 p.m. ET 4/19/12

Docket Numbers: ER12-1380-000

Applicants: PacifiCorp

Description: Termination of Alpental Non-Conforming PTP Agmt (Skyline) to be effective 5/29/2012.

Filed Date: 3/29/12

Accession Number: 20120329-5088

Comments Due: 5 p.m. ET 4/19/12

Docket Numbers: ER12-1381-000

Applicants: Robbins Energy, LLC

Description: Cancellation of Tariff to be effective 3/29/2012.

Filed Date: 3/29/12

Accession Number: 20120329-5091

Comments Due: 5 p.m. ET 4/19/12

Docket Numbers: ER12-1382-000

Applicants: ISO New England Inc., New England Power Pool Participants Committee

Description: Rev. to FCM Rules Related to Supplemental Availability Bilaterals to be effective 6/1/2012.

Filed Date: 3/29/12

Accession Number: 20120329-5102

Comments Due: 5 p.m. ET 4/19/12

Docket Numbers: ER12-1383-000

Applicants: Diamond State Generation Partners, LLC

Description: Market-Based Rate Application to be effective 3/29/2012.

Filed Date: 3/29/12

Accession Number: 20120329-5124

Comments Due: 5 p.m. ET 4/19/12

The filings are accessible in the Commission's eLibrary system by clicking on the links or querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2012.
Nathaniel J. Davis, Sr.,
Deputy Secretary.

[FR Doc. 2012-8302 Filed 4-5-12; 8:45 am]

BILLING CODE 6717-01-P